FEDERAL ELECTION COMMISSION

Sunshine Act Notices

PREVIOUSLY SCHEDULED DATE AND TIME: Tuesday, June 26, 2007, Meeting closed to the public. This meeting has been rescheduled to Thursday, June 28, 2007, to begin at the conclusion of the open meeting.

DATE AND TIME: Thursday, June 28, 2007 at 10 a.m.

PLACE: 999 E Street, NW., Washington, DC (ninth floor).

STATUS: This meeting will be open to the public.

ITEMS TO BE DISCUSSED: Correction and Approval of Minutes.

Future Meeting Dates.

Management and Administrative Matters.

PERSON TO CONTACT FOR INFORMATION: Mr. Robert Biersack, Press Officer, Telephone (202) 694-1220.

Mary W. Dove,
Secretary of the Commission.

[FR Doc. 07-3127 Filed 6-21-07; 2:18 pm]

BILLING CODE 6715-01-M